DEPARTMENT OF TRANSPORTATION

Surface Transportation Board

[STB Docket No. AB-998X]

Timber Rock Railroad, Inc.—Discontinuance of Service Exemption—In Burleson, Brazos, Grimes, Montgomery, Liberty, Hardin and Jefferson Counties, TX

On October 13, 2006, Timber Rock Railroad, Inc. (TIBR) filed with the Surface Transportation Board a petition under 49 U.S.C. 10502 for exemption from the provisions of 49 U.S.C. 10903. TIBR seeks to discontinue service over a 116-mile portion of rail line that it operates under lease from BNSF Railway Company (BNSF), the owner of the line. The line extends between (1) milepost 149.5 near Silsbee, TX, and milepost 52.5 near Dobbin, TX, (2) milepost 20.70 near Silsbee, TX, and milepost 4.5 near Beaumont, TX, and (3) milepost 149.5 and milepost 152.30 and track No. 498 in the Silsbee Yard near Silsbee, TX. TIBR also seeks to discontinue its 54.72 miles of overhead trackage rights operations over BNSF lines extending between (1) milepost 52.5 near Dobbin, TX, and milepost 144.0 on the BNSF Galveston Subdivision at Somerville, TX, and (2) milepost 4.5 near Beaumont, TX, and milepost 2.28 at Beaumont, TX.¹ The lines traverse U.S. Postal Service Zip Codes 77703, 77708, 77713, 77657, 77709, 77656, 77625, 77374, 77376, 77369, 77368, 77327, 77328, 77301, 77302, 77304, 77306, 77316, 77356, 77333, 77363, 77868, 77869 and 77879. The lines are located in Burleson, Brazos, Grimes, Montgomery, Liberty, Hardin and Jefferson Counties, TX. They include the stations of Dobbin, Montgomery, Conroe, Youens, Waukegan, Security, Fostoria, Cleveland, Hightower, Rayburn, Dollen, Romayor, Votaw, Bragg, Honey Island and Kountze. TIBR states that BNSF will resume providing both local and overhead operations on the lines.

¹ TIBR was authorized to lease from BNSF and operate approximately 117.82 miles of rail line in Texas. TIBR also was authorized to acquire 54.72 miles of incidental overhead trackage rights over connecting BNSF rail lines. See Timber Rock Railroad, Inc. Lease Exemption—The Burlington Northern and Santa Fe Railway Company, STB Finance Docket No. 34503 (STB served July 14, 2004, and Oct. 8, 2004). TIBR will continue to lease the 0.46-mile line between milepost 0.5 and milepost 0.96 near Kirbyville, TX, a .26-mile portion between milepost 152.30 and milepost 152.56 at Silsbee, TX, and a 1.10-mile portion between milepost 20.70 and 21.8 at Silsbee, TX, and the Silsbee Yard Tracks, except for Track No. 498, to accommodate better the continued interchange of traffic between BNSF and TIBR at Silsbee, TX.

The lines do not contain federally granted rights-of-way. Any documentation in TIBR's possession will be made available promptly to those requesting it.

The interest of railroad employees will be protected by the conditions set forth in Oregon Short Line R. Co.—Abandonment—Goshen, 360 I.C.C. 91 (1979).

By issuance of this notice, the Board is instituting an exemption proceeding pursuant to 49 U.S.C. 10502(b). A final decision will be issued by January 31, 2007.

Any offer of financial assistance (OFA) under 49 CFR 1152.27(b)(2) to subsidize continued rail service will be due no later than 10 days after service of a decision granting the petition for exemption. Each offer must be accompanied by a $1,300 filing fee. See 49 CFR 1002.2(f)(25).²

² Because this is a discontinuance proceeding and not an abandonment, trail use/rail banking and public use conditions are not appropriate. Likewise, no environmental or historic documentation is required under 49 CFR 1105.6(c) and 1105.8.

All filings in response to this notice must refer to STB Docket No. AB-998X, and must be sent to: (1) Surface Transportation Board, 1925 K Street, NW., Washington, DC 20423-0001, and (2) Karl Morell, Ball Janik LLP, 1455 F Street, NW., Suite 225, Washington, DC 20005.

Persons seeking further information concerning discontinuance procedures may contact the Board's Office of Public Services at (202) 565-1592 or refer to the full abandonment or discontinuance regulations at 49 CFR part 1152. Questions concerning environmental issues may be directed to the Board's Section of Environmental Analysis (SEA) at (202) 565-1539. [Assistance for the hearing impaired is available through the Federal Information Relay Service (FIRS) at 1-800-877-8339.]

Board decisions and notices are available on our Web site at http://www.stb.dot.gov.

Decided: October 25, 2006.
By the Board, David M. Konschnik, Director, Office of Proceedings.
Vernon A. Williams,
Secretary.

[FR Doc. E6-18411 Filed 11-1-06; 8:45 am]

BILLING CODE 4915-01-P